OFFICE OF NATIONAL DRUG CONTROL POLICY

Meeting of the Drug Control Research, Data, and Evaluation Advisory Committee

AGENCY: Office of National Drug Control Policy.

ACTION: Notice of Meeting.

SUMMARY: The Drug Control Research, Data, and Evaluation Advisory Committee will meet to discuss federal drug control initiatives, ONDCP's three strategic priorities: Stopping Drug Use Before it Starts; Healing America's Drug Users; and Disrupting the Market, and the operational aspects of the: (1) Media Campaign; (2) 25 Cities Initiative; (3) Marijuana Initiative; (4) Domestic Market Disruption; (5) Student Drug Testing; (6) Prescription Drug Safety; (7) Colombia/Mexico; and (8) Access to Recovery.

DATES: The meeting will be held Thursday, April 1, through Friday, April 2, 2004 each day from 9 a.m. to 4 p.m. There will be an opportunity for public comment on April 1st from 3:30 p.m. to 4 p.m.

ADDRESSES: The meeting will be held at the Office of National Drug Control Policy, 750 17th Street, NW., 5th Floor Conference Room, Washington, DC.

FOR FURTHER INFORMATION CONTACT: Janie Dargan, (202) 395-6714.

Dated: February 27, 2004.
Daniel R. Petersen,
Assistant General Counsel.

[FR Doc. 04-4687 Filed 3-2-04; 8:45 am]

BILLING CODE 3180-02-P